FEDERAL COMMUNICATIONS COMMISSION

47 CFR Part 64

[CG Docket Nos. 13-24, 10-51, and 03-123; DA 20-1373; FRS 17295]

Comment Sought IP CTS Rates Reconsideration Petitions

AGENCY: Federal Communications Commission.

ACTION: Petitions for reconsideration.

SUMMARY: In this document, the Commission seeks comment on two petitions for reconsideration of the IP CTS Compensation Order (Petitions), in which the Commission set compensation rates for internet Protocol Captioned Telephone Service (IP CTS).

DATES: Oppositions to the Petitions are due March 9, 2021 and replies to an opposition are due March 19, 2021.

ADDRESSES: Oppositions and replies may be filed, identified by CG Docket Nos. 13-24, 10-51, and 03-123, using the Commission's Electronic Comment Filing System (ECFS).

• Electronic Filers: Comments may be filed electronically using the internet by accessing the ECFS: https://www.fcc.gov/ecfs/filings.

• Paper Filers: Parties who choose to file by paper must file an original and one copy of each filing. If more than one docket or rulemaking number appears in the caption of this proceeding, filers must submit two additional copies for each additional docket or rulemaking number.

○ Filings can be sent by hand or messenger delivery, by commercial overnight courier, or by first-class or overnight U.S. Postal Service mail. All filings must be addressed to the Commission's Secretary, Office of the Secretary, Federal Communications Commission.

○ All hand-delivered or messenger-delivered paper filings for the Commission's Secretary must be delivered to Secretary's Office at 9050 Junction Drive, Annapolis Junction, MD 20701. The filing hours are 8:00 a.m. to 4:00 p.m., Monday through Friday. All hand deliveries must be held together with rubber bands or fasteners. Any envelopes and boxes must be disposed of before entering the building.

○ Commercial overnight mail (other than U.S. Postal Service Express Mail and Priority Mail) must be sent to 9050 Junction Drive, Annapolis Junction, MD 20701.

○ U.S. Postal Service first-class, Express, and Priority mail must be addressed to 45 L Street NE, Washington DC 20554.

FOR FURTHER INFORMATION CONTACT: Michael Scott, Consumer and Governmental Affairs Bureau at: (202) 418-1264; email: Michael.Scott@fcc.gov.

SUPPLEMENTARY INFORMATION: This is a summary of the Commission's Public Notice, in CG Docket Nos. 13-24, 10-51, and 03-123, DA 20-1373, released on November 19, 2020. The full text of the Petitions can be accessed online via the Commission's Electronic Comment Filing System at: http://apps.fcc.gov/ecfs/. To request materials in accessible formats for people with disabilities (Braille, large print, electronic files, audio format), send an email to fcc504@fcc.gov or call the Consumer and Governmental Affairs Bureau at 202-418-0530.

Synopsis

1. The Commission seeks comment on two petitions for reconsideration of the IP CTS Compensation Order, published at 85 FR 64971, October 14, 2020, in which the Commission set compensation rates for IP CTS of $1.42 per minute, effective December 1, 2020, through June 30, 2021, and $1.30 per minute, effective July 1, 2021, through June 30, 2022.

2. IDT Telecom, Inc. (IDT), a contributor to the Telecommunications Relay Services (TRS) Fund, contends that, because the Commission reduced the IP CTS compensation rate for the current 2020-21 TRS Fund Year, the Commission also should have reduced the applicable Fund contribution factor.

3. T-Mobile USA, Inc., on behalf of Sprint Communications Company L.P. (Sprint Accessibility), an IP CTS provider, asserts the Commission did not have a reasoned basis for adopting a single cost-based rate rather than a tiered rate structure and did not adequately consider certain costs.

Federal Communications Commission.
Robert Garza,
Legal Advisor, Consumer and Governmental Affairs Bureau.

Editorial Note: This document was received at the Office of the Federal Register on January 19, 2021.

[FR Doc. 2021-01580 Filed 2-19-21; 8:45 am]

BILLING CODE 6712-01-P